DEPARTMENT OF TRANSPORTATION

Federal Railroad Administration

[Docket No. FRA-2018-0041]

Petition for Renewal of Waiver of Compliance and Notice of Public Hearing

AGENCY: Federal Railroad Administration (FRA), Department of Transportation (DOT).

ACTION: Announcement of public hearing and reopening of comment period.

SUMMARY: On September 19, 2023, FRA published a public notice in Docket Number FRA-2018-0041 announcing that on July 1, 2023, Port Authority Trans-Hudson Corporation (Petitioner) submitted a petition seeking renewal of a waiver. In this notice, FRA is announcing a public hearing to allow interested persons the opportunity to provide comments on the petition. FRA is also announcing it is reopening the comment period for 15 days to allow time for interested parties to submit comments on the petition or in response to views or information provided at the public hearing.

DATES:

(1) The comment period for the notice published September 19, 2023, at 88 FR 64515, is reopened. FRA must receive comments on the petition, or in response to views or information provided at the public hearing, by April 19, 2024. FRA will consider comments received after that date to the extent practicable.

(2) A public hearing will be held on April 3, 2024, from 10 a.m. (ET) to 12 p.m. (ET) in Jersey City, New Jersey.

ADDRESSES:

Public Hearing: The public hearing will be held at One PATH Plaza, Jersey City, NJ 07306. For those participants wishing to make a statement at the public hearing, please contact FRA as described under the Public Participation Procedures heading in the SUPPLEMENTARY INFORMATION section of this document.

Comments: Comments related to Docket No. FRA-2018-0041 may be submitted by going to https://www.regulations.gov and following the online instructions for submitting comments.

Instructions: All submissions must include the agency name and docket number (FRA-2018-0041). All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Yu-Jiang Zhang, Staff Director—Track and Structures Division, Federal Railroad Administration, telephone: 202-493-6460, email: yujiang.zhang@dot.gov; or Veronica Chittim, Attorney Advisor, Federal Railroad Administration, telephone: 202-480-3410, email: veronica.chittim@dot.gov.

SUPPLEMENTARY INFORMATION: The purpose of this hearing is to receive comments in response to a petition to extend relief from certain requirements of 49 CFR part 214, subpart C. Petitioner should be present at the hearing and prepared to present evidence that relief from the definition of fouling the track (49 CFR 214.7, Definitions) in the 11 locations using bench walls for clearing for trains are necessary and in the best interest of safety. Several Labor organizations requested that FRA hold a public hearing on PATH's renewal petition to receive testimony from all parties interested in and affected by this proceeding.¹

¹ See https://www.regulations.gov/comment/FRA-2018-0041-0015; https://www.regulations.gov/comment/FRA-2018-0041-0016.

Interested parties are invited to present statements and to offer information and views at the hearing. The hearing will be an informal, non-adversarial proceeding conducted by a representative FRA designates under FRA's Rules of Practice (49 CFR 211.25). Therefore, there will be no cross-examination of persons presenting statements or offering information. An FRA representative will make an opening statement outlining the scope of the hearing. Interested parties will then be provided with an opportunity to make initial statements. After all initial statements are completed, those persons wishing to make a brief rebuttal will be given the opportunity to do so, in the same order in which the initial statements were made. FRA will announce any additional procedures necessary at the hearing.

There will be a court reporter to record and transcribe comments presented verbatim at the hearing. FRA will add the verbatim transcript of the discussions to the public docket in this proceeding.

Public Participation Procedures

Any person: (1) wishing to attend the hearing, (2) make a statement at the hearing, or (3) both, should notify FRA by contacting Mr. Timothy Presser, FRA Roadway Worker Protection (RWP)/Roadway Maintenance Machines (RMM) Specialist, by email at timothy.presser@dot.gov, no later than April 1, 2024, providing the following information, as applicable:

(a) The name, affiliation or party represented, email address, and phone number of the participant.

(b) The subject(s) of the statement and/or presentation the participant wishes to make, and the amount of time requested.

(c) A copy of the oral statement and/or presentation, if available.

FRA reserves the right to limit participation in the hearing of persons who fail to follow the public participation procedures as outlined above, or additional procedures announced at the hearing. FRA also reserves the right to limit the duration of presentations, as necessary, to afford all persons the opportunity to speak, or to limit participation in the hearing of persons who exceed their allotted time or who discuss topics or issues outside the scope of the petition. Further, FRA reserves the right to limit in-person attendance at the hearing, as space is limited; preference in attendance will be provided to persons requesting to present statements.

FRA is committed to providing equal access to this meeting for all participants. If you need alternative formats or other reasonable accommodations to participate in this meeting, please contact FRA RWP/RMM Specialist Mr. Timothy Presser, by email at timothy.presser@dot.gov, no later than April 1, 2024.

Reopening of Comment Period

FRA is reopening the comment period for 15 days to April 19, 2024, to allow time for interested parties to submit written comments on the proposal or in response to views or information provided at the public hearing.

Privacy Act

In accordance with FRA Order 1100.14G, FRA solicits comments from the public to better inform its disposition of waivers, exemptions, block signal applications, and other special approvals under the Federal railroad safety laws and regulations and in accordance with FRA's Rules of Practice (Title 49 Code of Federal Regulations (CFR) Part 211). DOT posts these comments, without edit, to www.regulations.gov, under docket number FRA-2018-0041, as described in the system of records notice, DOT/ALL-14 FDMS, accessible through https://www.transportation.gov/privacy. To facilitate comment tracking and response, we encourage commenters to provide their name, or the name of their organization; however, submission of names is completely optional. Whether or not commenters identify themselves, all timely comments will be fully considered. If you wish to provide comments containing proprietary or confidential information, please contact the agency for alternate submission instructions.

Issued in Washington, DC.
John Karl Alexy,
Associate Administrator for Railroad Safety, Chief Safety Officer.

[FR Doc. 2024-04510 Filed 3-1-24; 8:45 am]

BILLING CODE 4910-06-P